DEPARTMENT OF ENERGY

Federal Energy Regulatory Commission

Combined Notice of Filings #2

January 23, 2006.

Take notice that the Commission received the following electric rate filings.

Docket Numbers: ER03-647-008.

Applicants: New York Independent System Operator, Inc.

Description: New York Independent System Operator, Inc submits its Third Annual Compliance Report on Implementation of the ICAP Demand Curves.

Filed Date: 1/3/2006.

Accession Number: 20060103-4004.

Comment Date: 5 p.m. eastern time on Thursday, February 2, 2006.

Docket Numbers: ER03-1182-002.

Applicants: Tyr Energy, LLC.

Description: Tyr Energy, LLC submits developments constituting a non-material change in status related to the market-based rate authority required by Order 652.

Filed Date: 1/17/2006.

Accession Number: 20060123-0022.

Comment Date: 5 p.m. eastern time on Tuesday, February 7, 2006.

Docket Numbers: ER03-838-004; ER04-1081-002; ER04-1080-002; ER03-209-003; ER03-290-003ER03-341-003; ER03-342-003; ER99-970-004; ER99-1983-004; ER00-38-005; ER03-446-003; ER00-1171-003; ER00-1115-004; ER00-2080-003.

Applicants: Power Contract Financing, L.L.C.; PCF2,LLC; Calpine Energy Management, L.P.; CES Marketing V, L.P.; Calpine California Equipment Finance Company, LLC; Calpine Power America—OR, LLC; Calpine Power America CA, LLC; RockGen Energy LLC; Geysers Power Company, LLC; Broad River Energy LLC; Calpine Philadelphia Inc.; Tiverton Power Associates, L.P.; Calpine Construction Finance Company, L.P.; Rumford Power Associates, L.P.

Description: Calpine Entities submits their joint updated market power analysis and revised rate schedule sheets.

Filed Date: 1/17/2006.

Accession Number: 20060119-0194.

Comment Date: 5 p.m. eastern time on Tuesday, February 7, 2006.

Docket Numbers: ER04-1248-000; ER04-1249.

Applicants: Union Light, Heat & Power Company; The Cincinnati Gas & Electric Company.

Description: Union, Heat & Power Co. and the Cincinnati Gas & Electric Co. Notification that the Transfer of Generating Facilities occured effective 1/1/06.

Filed Date: 1/17/2006.

Accession Number: 20060117-5007.

Comment Date: 5 p.m. eastern time on Tuesday, February 7, 2006.

Docket Numbers: ER05-428-006.

Applicants: New York Independent System Operator, Inc.

Description: New York Independent System Operator submits compliance filing of the New York Independent System Operator, Inc.

Filed Date: 1/17/2006.

Accession Number: 20060119-0187.

Comment Date: 5 p.m. eastern time on Tuesday, February 7, 2006.

Docket Numbers: ER06-58-001.

Applicants: California Independent System Operator.

Description: California Independent System Operator Corp submits a filing in compliance with FERC's 12/15/05 Order.

Filed Date: 1/17/2006.

Accession Number: 20060119-0192.

Comment Date: 5 p.m. eastern time on Tuesday, February 7, 2006.

Docket Numbers: ER06-61-001.

Applicants: California Independent System Operator Corporation.

Description: The California Independent System Operator Corp submits a filing in compliance with FERC's 12/15/05 Order.

Filed Date: 1/17/2006.

Accession Number: 20060119-0197.

Comment Date: 5 p.m. Eastern Time on Tuesday, February 7, 2006.

Docket Numbers: ER06-182-002.

Applicants: MidAmerican Energy Company.

Description: MidAmerican Energy Co submits updated Original Sheet No. 42 included filing of 12/9/05.

Filed Date: 1/17/2006.

Accession Number: 20060123-0021.

Comment Date: 5 p.m. eastern time on Tuesday, February 7, 2006.

Docket Numbers: ER06-312-001; ER03-198-005.

Applicants: Pacific Gas & Electric Company.

Description: Pacific Gas & Electric Co submits Substitute Second Revised Sheet No. 1 et al to FERC Electric Tariff, Original Volume No. 13 reflecting the revisions made to the 12/9/05 filing pursuant to Order 652.

Filed Date: 1/17/2006.

Accession Number: 20060123-0025.

Comment Date: 5 p.m. eastern time on Tuesday, January 31, 2006.

Docket Numbers: ER06-487-000; ER06-488-000; ER06-489-000; ER06-490-000.

Applicants: PJM Transmission Owners et al.

Description: PJM Interconnection, LLC and the PJM Transmission Owners submit three separate agreements and establish the Consolidated Transmission Owner Agreement, PJM Rate Schedule No. 42.

Filed Date: 1/17/2006.

Accession Number: 20060119-0193.

Comment Date: 5 p.m. eastern time on Tuesday, February 7, 2006.

Docket Numbers: ER06-491-000.

Applicants: CED Rock Springs, LLC.

Description: CED Rock Springs, LLC submits Revised Schedule No. 7, Schedule No. 8 and Attachment H-7 to the PJM Tariff, Sixth Revised Volume No. 1.

Filed Date: 1/17/2006.

Accession Number: 20060119-0186.

Comment Date: 5 p.m. eastern time on Tuesday, February 7, 2006.

Docket Numbers: ER06-492-000.

Applicants: American Electric Power Service Corporation.

Description: American Electric Power System submits amendments to the OATT, FERC Electric Tariff, Third Revised Volume No. 6.

Filed Date: 1/17/2006.

Accession Number: 20060119-0185.

Comment Date: 5 p.m. eastern time on Tuesday, February 7, 2006.

Docket Numbers: ER06-493-000.

Applicants: Midwest Independent Transmission System Operator, Inc.

Description: Midwest Independent Transmission System Operator, Inc's proposed revisions to Section 7.14(a) and Attachment L of the OATT and Energy Markets Tariff, FERC Electric Tariff, Third Revised Volume No. 1.

Filed Date: 1/17/2006.

Accession Number: 20060119-0184.

Comment Date: 5 p.m. eastern time on Tuesday, February 7, 2006.

Docket Numbers: ER06-494-000.

Applicants: Sierra Pacific Resources Operating Companies.

Description: Nevada Power Co & Sierra Pacific Power Corp submit amendments to the Sierra Pacific Resources Operating Companies Open Access Transmission Tariff, Third Revised Volume No. 1.

Filed Date: 1/17/2006.

Accession Number: 20060119-0183.

Comment Date: 5 p.m. eastern time on Tuesday, February 7, 2006.

Docket Numbers: ER06-495-000.

Applicants: Duke Energy Corporation.

Description: Duke Electric Transmission submits its compliance filing, in compliance with FERC's Order 661-A.

Filed Date: 1/17/2006.

Accession Number: 20060119-0182.

Comment Date: 5 p.m. eastern time on Tuesday, February 7, 2006.

Docket Numbers: ER06-496-000.

Applicants: Portland General Electric Company.

Description: Portland General Electric Co submits revisions to the pro forma open access transmission tariff pursuant to FERC's Order 661 et al.

Filed Date: 1/17/2006.

Accession Number: 20060119-0191.

Comment Date: 5 p.m. eastern time on Tuesday, February 7, 2006.

Docket Numbers: ER06-497-000.

Applicants: Old Dominion Electric Cooperative.

Description: Old Dominion Electric Cooperative submits proposed rate schedule for Old Dominion Electric Cooperative Rock Springs Transmission Revenue Requirement Recovery, for inclusion in PJM Tariff Attachment H-3 etc.

Filed Date: 1/17/2006.

Accession Number: 20060119-0196.

Comment Date: 5 p.m. eastern time on Tuesday, February 7, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-1124 Filed 1-27-06; 8:45 am]

BILLING CODE 6717-01-P